DEPARTMENT OF COMMERCE

International Trade Administration

Export Trade Certificate of Review

ACTION: Notice of Issuance of an Amended Export Trade Certificate of Review to Ferrous Scrap Export Association, Application No. 88-3A015.

SUMMARY: On June 29, 2007, the U.S. Department of Commerce issued an amended Export Trade Certificate of Review to the Ferrous Scrap Export Association (“FSEA”).

FOR FURTHER INFORMATION CONTACT: Jeffrey C. Anspacher, Director, Export Trading Company Affairs, International Trade Administration, (202) 482-5131 (this is not a toll-free number) or e-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2005).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

The original FSEA Certificate (Application No.88-00015) was issued on December 12, 1988 (53 FR 51294, December 21, 1988) and previously amended on February 28, 1989 (54 FR 9542, March 7, 1989); and February 5, 1999 (64 FR 6632, February 10, 1999). Also, a name change was announced changing the name of the FSEA Certificate Member “Witte-Chase Corporation” to “Metro Metal Recycling Corp” (55 FR 13581, April 11, 1990).

FSEA's Export Trade Certificate of Review Has Been Amended To:

1. Add each of the following companies as a new “Member” of the Certificate within the meaning of section 325.2(l) of the Regulations (15 CFR 325.2(l)): Sims Hugo Neu Corporation; HNE Recycling LLC; and HNW Recycling LLC, each located in New York, NY.

2. Change the current Member listing of the trade name “Simsmetal America” to the legal name of “Sims Group USA Corporation”, and change the current Member listing of “Southern Scrap Material Co., Ltd.” to “Southern Recycling, LLC,” due to a company name change.

3. Delete the following companies as “Members” of the Certificate: Metro Metal Recycling Corp., New York, NY, and Proler International Corp., Portland, OR.

4. Update “Export Trade Activities and Methods of Operation”, paragraph 2. a., to reflect the current FSEA Member voting rights, which are as follows:

“2. FSEA and its Members may prescribe the following conditions with respect to voting rights, membership in, and withdrawal and expulsion from, FSEA:

a. Voting need not be on a one-member/one-vote basis. Voting rights shall be: Camden Iron & Metal Inc., Hugo Neu Corporation, Schnitzer Steel Industries, Inc., Sims Group USA Corporation, and Southern Recycling, LLC shall have one vote each; Sims Hugo Neu Corporation, HNE Recycling LLC, and HNW Recycling LLC shall have one vote jointly to be voted by Sims Group USA Corporation; Metal Management, Inc., Naporano Iron & Metal Co. and NIMCO Shredding Co. shall have one vote jointly to be voted by Naporano Iron & Metal Co. Thereafter, any change in voting rights shall require a two-thirds affirmative vote of the members. All votes, including votes to change voting rights, shall be conducted under the voting rules then in effect.”

The effective date of the amended certificate is April 5, 2007. A copy of the amended certificate will be kept in the International Trade Administration's Freedom of Information Records Inspection Facility, Room 4001, U.S. Department of Commerce, 14th Street and Constitution Avenue, NW., Washington, DC 20230.

Dated: June 29, 2007.
Jeffrey C. Anspacher,
Director, Export Trading Company Affairs.

[FR Doc. E7-13196 Filed 7-6-07; 8:45 am]

BILLING CODE 3510-DR-P